ENVIRONMENTAL PROTECTION AGENCY

40 CFR Part 197

[FRL-7968-7]

RIN 2060-AN15

Opportunity to Obtain Information and Present Testimony on Proposed Public Health Environmental Radiation Protection Standards for Yucca Mountain, NV; Notice of Public Hearings

AGENCY: Environmental Protection Agency.

ACTION: Proposed rule; notice of public hearings.

SUMMARY: The Environmental Protection Agency (EPA) will conduct public hearings to receive comments on its proposed amendments to the Public Health and Environmental Radiation Protection Standards for Yucca Mountain, Nevada in Amargosa Valley, NV; Las Vegas, NV; and Washington, DC.

The amended proposed standards were published in the Federal Register on August 22, 2005. The 60-day public comment period closes on October 21, 2005.

DATES: The schedule for the hearings is as follows:

• Amargosa Valley, NV, October 3, 2005, from 7 p.m. to 9 p.m. This hearing will be preceded by an information session from 4 p.m. to 5:30 p.m., and a roundtable discussion from 5:30 p.m. to 6:30 p.m.

• Las Vegas, NV, October 4, 2005, from 7 p.m. to 9 p.m. This hearing will be preceded by an information session from 4 p.m. to 5:30 p.m., and a roundtable discussion from 5:30 p.m. to 6:30 p.m.

• Las Vegas, NV, October 5, 2005, from 11 a.m. to 12 a.m. This hearing will be preceded by an information session from 10 a.m. to 11 a.m.

• Washington, DC, October 11, 2 p.m. to 4 p.m. This hearing will be preceded by an information session from 1 p.m. to 2 p.m. Specific locations for each city are detailed in the next section, ADDRESSES. Procedures for preregistering for and testifying at these public hearings are detailed in the “'Hearings Procedures”' subsection (under Unit II) of the SUPPLEMENTARY INFORMATION section.

ADDRESSES: EPA's public hearings to receive comments on the Agency's amended proposed radiation protection standards for Yucca Mountain, Nevada will be held on:

• October 3, 2005 at the Amargosa Valley Community Center, 821 East Farm Road, Amargosa Valley, NV;

• October 4 and 5, 2005 at The Cashman Center, 850 North Las Vegas Blvd, Las Vegas, NV;

• October 11, 2005 at the EPA East Building, Room 1153, 1202 Constitution Ave, NW. (Federal Triangle Metro Stop).

For additional information regarding the purpose and format of the hearings, please refer to Unit II of the SUPPLEMENTARY INFORMATION section.

Submit your comments, identified by Docket ID No. OAR-2005-0083, by one of the following methods:

• Electronically: If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case we cannot read your comment due to technical difficulties or we need further information on the substance of your comment. EPA's policy is that we will not edit your comment, and any identifying or contact information provided in the body of a comment will be included as part of the comment that is placed in the official public docket, and made available in EPA's electronic public docket. If EPA cannot read your comment due to technical difficulties and cannot contact you for clarification, we may not be able to consider your comment.

• Federal eRulemaking Portal: http://www.regulations.gov. Follow the on-line instructions for submitting comments.

• Agency Web site: http://www.epa.gov/edocket. EDOCKET, EPA's electronic public docket and comment system, is EPA's preferred method for receiving comments. Follow the on-line instructions for submitting comments.

• E-mail: Comments may be sent by electronic mail (e-mail) to a-and-r-docket@epa.gov, Attention Docket ID No. OAR-2005-0083.

• Fax: Fax your comments to: 202-566-1741, Attention Docket ID. No. OAR-2005-0083.

• Surface Mail: Send your comments to: EPA Docket Center (EPA/DC), Air and Radiation Docket, Environmental Protection Agency, EPA West, Mail Code 6102T, 1200 Pennsylvania Avenue, NW., Washington, DC 20460. Attention Docket ID No. OAR-2005-0083.

• Hand Delivery or Courier: Deliver your comments to: Air and Radiation Docket, EPA Docket Center, (EPA/DC) EPA West, Room B102, 1301 Constitution Ave., NW., Washington, DC, Attention Docket ID No. OAR-2005-0083. Such deliveries are only accepted during the Docket Center's normal hours of operation and special arrangements should be made for deliveries of boxed information.

Instructions: Direct your comments and information to Docket ID No. OAR-2005-0083. EPA's policy is that all comments received will be included in the public docket without change and may be made available online at http://www.epa.gov/edocket, including any personal information provided, unless the comment includes information claimed to be Confidential Business Information (CBI) or other information whose disclosure is restricted by statute. Do not submit information that you consider to be CBI or otherwise protected through EDOCKET, regulations.gov, or e-mail. The EPA EDOCKET and the Federal regulations.gov Web sites are “anonymous access” systems, which means EPA will not know your identity or contact information unless you provide it in the body of your comment. If you send an e-mail comment directly to EPA without going through EDOCKET or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff. For additional information about EPA's public docket visit EDOCKET on-line or see the Federal Register of May 31, 2002 (67 FR 38102). For additional instructions on submitting comments, please refer to Units I.B., I.C., and I.D. of the SUPPLEMENTARY INFORMATION section of this document.

Docket: The official docket is the collection of materials that is available for public viewing at the Air and Radiation Docket in the EPA Docket Center (EPA/DC), EPA West, Room B102, 1301 Constitution Ave., NW., Washington, DC. The EPA Docket Center Public Reading Room is open from 8:30 a.m. to 4:30 p.m., Monday through Friday, excluding legal holidays. The telephone number for the Public Reading Room is 202-566-1744. The telephone number for the Air and Radiation Docket is 202-566-1742. As provided in EPA's regulations at 40 CFR part 2, and in accordance with normal EPA docket procedures, if copies of any docket materials are requested, a reasonable fee may be charged.

FOR FURTHER INFORMATION CONTACT: Ray Clark, Office of Radiation and Indoor Air, Radiation Protection Division (6608J), U.S. Environmental Protection Agency, 1200 Pennsylvania Ave., NW., Washington, DC 20460-0001; telephone number: 202-343-9601; fax number: 202-343-2305; e-mail address: clark.ray@epa.gov.

SUPPLEMENTARY INFORMATION:

I. General Information

A. Does This Action Apply to Me?

The DOE is the only entity regulated by these standards. Our standards affect NRC only because, under Section 801(b) of the EnPA, 42 U.S.C. 10141 n., NRC must modify its licensing requirements, as necessary, to make them consistent with our final standards. Before it may accept waste at the Yucca Mountain site, DOE must obtain a license from NRC. DOE will be subject to NRC's modified regulations, which NRC will implement through its licensing proceedings.

B. What Should I Consider as I Prepare My Comments for EPA?

1. Submitting CBI. If you submit CBI, clearly mark the part or all of the information that you claim to be CBI. For CBI information on a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. Respond to specific questions from the Agency.

9. To ensure proper receipt by EPA, identify the appropriate docket identification number in the subject line on the first page of your response.

C. How Can I View Items in the Docket?

1. Information Files. EPA is working with the Lied Library at the University of Nevada-Las Vegas (http://www.library.unlv.edu/about/hours.html#desks) and the Amargosa Valley, Nevada public library (http://www.amargosavalley.com/Library.html) to provide information files on this rulemaking. These files are not legal dockets, however every effort will be made to put the same material in them as in the official public docket in Washington, DC. The Lied Library information file is at the Research and Information Desk, Government Publications Section (702-895-2200). Hours vary based upon the academic calendar, so we suggest that you call ahead to be certain that the library will be open at the time you wish to visit (for a recorded message, call 702-895-2255). The other information file is in the Public Library in Amargosa Valley, Nevada (phone 775-372-5340). As of the date of publication, the hours are Monday, Wednesday, and Friday (9 a.m.-5 p.m.); Tuesday and Thursday (9 a.m.-7 p.m.); and Saturday (9 a.m.-1 p.m.). The library is closed on Sunday. These hours can change, so we suggest that you call ahead to be certain when the library will be open.

2. Electronic Access. An electronic version of the public docket is available through EPA's electronic public docket and comment system, EPA Dockets (EDOCKET). You may use EDOCKET to submit or view comments, access the index listing of the contents of the official public docket, and to access those documents in the public docket that are available electronically. To access the docket either go directly to http://www.epa.gov/edocket or, from the EPA Internet Home Page (http://www.epa.gov), select “Information Sources” (in the left column), then “Dockets,” then “EPA Dockets” (in the first paragraph). For either route, then click on “Quick Search” (in the left column). In the search window, type in the docket identification number OAR-2005-0083. Please be patient, the search could take about 30 seconds. This will bring you to the “Docket Search Results” page. At that point, click on OAR-2005-0083. From the resulting page, you may access the docket contents (e.g., OAR-2005-0083-0002) by clicking on the icon in the “Rendition” column.

D. Can I Access Information by Telephone or via the Internet?

Yes. You may call our toll-free information line (800-331-9477) 24 hours per day. By calling this number, you may listen to a brief update describing our rulemaking activities for Yucca Mountain, leave a message requesting that we add your name and address to the Yucca Mountain mailing list, or request that an EPA staff person return your call. In addition, we have established an electronic listserv through which you can receive electronic updates of activities related to this rulemaking. To subscribe to the listserv, please visit http://www.epa.gov/radiation/yucca/up-to-date.htm. Click on “Yucca Updates Listserv” and follow to directions there. You also can find information and documents relevant to this rulemaking on the World Wide Web at http://www.epa.gov/radiation/yucca. We also recommend that you examine the preamble and regulatory language for the earlier proposed and final rules, which appeared in the Federal Register on August 27, 1999 (64 FR 46976) and June 13, 2001 (66 FR 32074), respectively.

II. Meeting Purpose and Format

The meetings will provide opportunities for both informal exchanges of information and formal comments. Meeting formats are as follows:

• Information Sessions: an informal opportunity to learn about the standards, meet EPA staff, and ask questions. Comments on the record can also be provided in writing or on tape.

• Roundtable Dialogues: a facilitated conversation with EPA staff to discuss the standards and allow opportunities for the public to ask questions of EPA staff, and for EPA to respond. A summary of key points and questions will be recorded for the record.

• Public Hearings: a formal opportunity to make verbal statements that will be recorded for the public record. For the convenience of the public, individuals and organizations should schedule a specific time to make their comments (see Hearings Procedures below).

Hearing Procedures

Persons wishing to testify at any of the public hearings are requested to pre-register by calling EPA's toll-free Yucca Mountain Information Line at 1-800-331-9477 at any time. You will be asked to leave a message with the following information:

• Name/Organizational Affiliation (if any).

• Hearing date, location, time(s) available to testify.

• Daytime telephone number.

Your call will be returned within one business day to confirm a scheduled time for testimony. In order to obtain a scheduled speaking time, EPA must receive requests no later than September 30, 2005, for the hearings in Amargosa Valley and Las Vegas, Nevada; and October 7, 2005, for the hearing in Washington, DC. Speakers not registered in advance may register at the door but are not guaranteed the opportunity to testify, depending on time constraints (all individuals will also be able to comment in writing or on tape). Individuals testifying on their own behalf will be allowed 5 minutes. Groups or organizations must designate one individual to testify as the official representative, and each group will be allocated ten minutes for an oral presentation. Individuals and organizations may submit written comments in addition to oral testimony. Time allowed is exclusive of any time consumed by questions from the government panel and answers to these questions. Testimony from individuals and representatives of organizations is limited to one hearing location. In order to ensure that all individuals and groups are given an opportunity to testify, substitutions will not be permitted for any pre-registered person. Registrants will not be permitted to yield their time to other individuals or groups, nor will hearing time be used to “'read into the record”' testimony from individuals not present at the hearings. In the event any person wishes to enter comments for the record, but either cannot or does not appear personally at the hearings, EPA will accept written comments during the hearings and other meetings. These written comments will be considered to the same extent as oral testimony and will be included as part of the official hearings transcripts. The hearing transcript will constitute the official record of the hearings. Written comments submitted outside of the public hearings must be received by EPA Docket OAR-2005-0083 in Washington, DC, by October 21, 2005. All comments received by EPA, whether written or oral, will be given equal consideration in development of the final rule.

Dated: September 8, 2005.
William L. Wehrum,
Acting Assistant Administrator for Air and Radiation.

[FR Doc. 05-18226 Filed 9-13-05; 8:45 am]

BILLING CODE 6560-50-P